DEPARTMENT OF THE TREASURY

Submission for OMB Review; Comment Request

February 25, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 3, 2003 to be assured of consideration.

Internal Revenue Service (IRS)

OMB Number: 1545-1049.

Regulation Project Number: IA-7-88 Final.

Type of Review: Extension.

Title: Excise Tax Relating to Gain or Other Income Realized by Any Person on Receipt of Greenmail.

Description: The final regulations provide rules relating to the manner and method of reporting and paying the nondeductible 50 percent excise tax imposed by section 5881 of the Internal Revenue Code with respect to the receipt of greenmail.

Respondents: Business or other for-profit, Individuals or households.

Estimated Number of Respondents/Recordkeepers: 4.

Estimated Burden Hours Per Respondent/Recordkeeper: 30 minutes.

Frequency of Response: On occasion.

Estimated Total Reporting/Recordkeeping Burden: 2 hours.

OMB Number: 1545-1557.

Revenue Procedure Number: Revenue Procedure 99-39.

Type of Review: Extension.

Title: Form 941 e-file Program.

Description: Revenue Procedure 99-39 provides guidance and the requirements for participating in the Form 941 e-file Program.

Respondents: Business or other for-profit, Not-for-profit institutions, Federal Government, State, Local or Tribal.

Estimated Number of Respondents/Recordkeepers: 390,200.

Estimated Burden Hours Per Respondent/Recordkeeper: 37 minutes.

Frequency of Response: On occasion.

Estimated Total Reporting/Recordkeeping Burden: 238,863 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental Reports, Management Officer.

[FR Doc. 03-5020 Filed 3-3-03; 8:45 am]

BILLING CODE 4830-01-P